OFFICE OF PERSONNEL MANAGEMENT

Summary of Operation of Information Technology Exchange Program

AGENCY: Office of Personnel Management.

ACTION: Notice.

SUMMARY: Section 209 of Pub. L. 107-347, the E-Government Act of 2002 established a semiannual reporting requirement for a new Information Technology Exchange Program. This notice constitutes the initial report.

FOR FURTHER INFORMATION CONTACT: LaVeen Ponds by TTY at (202) 418-3134, by fax at (202) 606-2329, phone at 202-606-1394 or e-mail at lmponds@opm.gov.

SUPPLEMENTARY INFORMATION: The intent of section 209 of Pub. L. 107-347, the E-Government Act of 2002 is to improve the skills and knowledge of the Federal workforce in using information technology to deliver Government information services. To that end, section 209 amends title 5, United States Code (U.S.C.) to create a new chapter 37, which provides for an Information Technology (IT) Exchange Program for Federal and private sector employees. The IT Exchange Program is envisioned to promote the interchange of Federal and private industry workers to enhance skills and competencies.

The new section, 5 U.S.C. 3706(a) requires the Office of Personnel Management to submit a report to the Committee on Government Reform of the House of Representatives and the Committee on Governmental Affairs of the Senate not later than April 30 and October 31 of each year, summarizing the operation of the new chapter during the immediately preceding 6-month period ending March 31 and September 30, respectively. Due to the enactment of this Act late in the session, regulations for the new program have only been drafted recently and are in final development. Accordingly, as they are not available for the administration of the new chapter 37, the program has not yet been implemented by agencies. Therefore, there is no information available concerning the numbers or nature of assignments under the program as required by 5 U.S.C. 3706.

These regulations are a top priority and will be issued as soon as possible. Consistent with the E-Government Act, the IT Exchange Program regulations set out eligibility criteria as well as terms and conditions of the detail for Federal participants; written agreement criteria and service agreement requirements; and reporting requirements.

The October 31 report will provide the status of the implementation of the IT Exchange Program and any applicable program information available at that time.

This report may also be viewed on OPM's Web page at www.opm.gov

Office of Personnel Management.
Kay Coles James,
Director.

[FR Doc. 03-13646 Filed 5-30-03; 8:45 am]

BILLING CODE 6325-38-P